DEPARTMENT OF COMMERCE

International Trade Administration

[A-122-863]

Large Diameter Welded Pipe From Canada: Final Results of Antidumping Duty Administrative Review; 2020-2021

AGENCY: Enforcement and Compliance, International Trade Administration, Department of Commerce.

SUMMARY: The U.S. Department of Commerce (Commerce) determines that the producer and/or exporter subject to this administrative review made sales of large diameter welded pipe from Canada in the United States at prices below normal value (NV) during the period of review (POR), May 1, 2020, through April 30, 2021.

DATES: Applicable November 23, 2022.

FOR FURTHER INFORMATION CONTACT: Irene Gorelik, AD/CVD Operations, Office VIII, Enforcement and Compliance, International Trade Administration, U.S. Department of Commerce, 1401 Constitution Avenue NW, Washington, DC 20230; telephone: (202) 482-6905

SUPPLEMENTARY INFORMATION:

Background

On June 6, 2022, Commerce published the preliminary results of this administrative review.¹ The review covers one producer or exporter: Evraz Inc. NA (Evraz).² We invited interested parties to comment on the Preliminary Results. A summary of the events that occurred since Commerce published the Preliminary Results, as well as a full discussion of the issues raised by parties for these final results, are discussed in the Issues and Decision Memorandum.³ Commerce conducted this review in accordance with section 751(a) of the Tariff Act of 1930, as amended (the Act).

¹ See Large Diameter Welded Pipe from Canada: Preliminary Results of Antidumping Duty Administrative Review and Partial Rescission of Administrative Review; 2020-2021, 87 FR 34249 (June 6, 2022) (Preliminary Results), and accompanying Preliminary Decision Memorandum.

² In the underlying investigation, Commerce treated Evraz Inc. NA, Evraz Inc. NA Canada, and the Canadian National Steel Corporation (collectively, Evraz) as a single entity. See Large Diameter Welded Pipe from Canada: Antidumping Duty Order, 84 FR 18775, 18776 (May 2, 2019) (Order). There is no information on this record of this review that requires reconsideration of this single entity determination.

³ See Memorandum, “Issues and Decision Memorandum for the Final Results of Antidumping Duty Administrative Review: Large Diameter Welded Pipe from Canada; 2020-2021,” dated concurrently with, and hereby adopted by, this notice (Issues and Decision Memorandum).

Scope of the Order

The product covered by this Order is large diameter welded pipe from Canada. For a complete description of the scope of the Order, see the Issues and Decision Memorandum.

Analysis of Comments Received

All issues raised in the parties' case and rebuttal briefs are addressed in the Issues and Decision Memorandum and are listed in the appendix to this notice. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://access.trade.gov/public/FRNoticesListLayout.aspx.

Changes Since the Preliminary Results

Based on comments received from interested parties regarding our Preliminary Results and our review of the record to address those comments, we made changes to the preliminary weighted-average dumping margin calculations for Evraz, as detailed in the Issues and Decision Memorandum.⁴

⁴ See Issues and Decision Memorandum at 3 and Comments 2, 3, 5, and 6.

Final Results of Review

As a result of this review, we determine the following weighted-average dumping margin exists for the POR:

Exporter or producer | Weighted- average dumping margin (percent)
Evraz Inc. NA ⁵ | 36.02

Disclosure

Commerce intends to disclose the calculations performed for these final results within five days of the date of publication of this notice in the Federal Register, in accordance with 19 CFR 351.224(b).

⁵ As noted above, the Evraz single entity includes: Evraz Inc. NA; Evraz Inc. NA Canada; and the Canadian National Steel Corporation.

Assessment Rates

Commerce has determined, and U.S. Customs and Border Protection (CBP) shall assess, antidumping duties on all appropriate entries of subject merchandise in accordance with these final results of review.⁶ Pursuant to 19 CFR 351.212(b)(1), Evraz reported the entered value of its U.S. sales such that we calculated importer-specific ad valorem duty assessment rates based on the ratio of the total amount of dumping calculated for the examined sales to the total entered value of the sales for which entered value was reported. Where the respondent's weighted-average dumping margin is zero or de minimis within the meaning of 19 CFR 351.106(c)(1), or an importer-specific assessment rate is zero or de minimis, we will instruct CBP to liquidate the appropriate entries without regard to antidumping duties.

⁶ See 19 CFR 351.212(b).

Commerce's “automatic assessment” practice will apply to entries of subject merchandise during the POR produced by Evraz for which the company did not know that the merchandise it sold to the intermediary (e.g., a reseller, trading company, or exporter) was destined for the United States. In such instances, we will instruct CBP to liquidate unreviewed entries at the all-others rate if there is no rate for the intermediate company(ies) involved in the transaction.⁷ Commerce intends to issue assessment instructions to CBP no earlier than 41 days after the date of publication of the final results of this review in the Federal Register, in accordance with 19 CFR 356.8(a).

⁷ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for Evraz Inc. NA will be equal to the weighted-average dumping margin that is established in the final results of this review; (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 12.32 percent ad valorem, the all-others rate established in the LTFV investigation.⁸ These cash deposit requirements, when imposed, shall remain in effect until further notice.

⁸ See Order.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: November 17, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether Commerce Should Apply Partial Adverse Facts Available (AFA) to Evraz's Cost of Production (COP)

Comment 2: Calculation of the General and Administrative (G&A) Expense Ratio

Comment 3: Whether to Include Certain Line Items in the G&A Expense Ratio Calculation

Comment 4: Surrogate Costs for Products Sold But Not Produced During the POR

Comment 5: Whether Major Input Adjustments to Scrap Cost Are Distorted

Comment 6: Coating Cost Adjustments

VI. Recommendation

[FR Doc. 2022-25564 Filed 11-22-22; 8:45 am]

BILLING CODE 3510-DS-P